DEPARTMENT OF TRANSPORTATION

Federal Aviation Administration

14 CFR Parts 1, 60, 61, 63, 141, and 142

[Docket No. FAA-2002-12461; Notice No. 02-11]

RIN 2120-AH07

Flight Simulation Device Initial and Continuing Qualification and Use

AGENCY: Federal Aviation Administration (FAA), DOT.

ACTION: Notice of proposed rulemaking (NPRM); extension of comment period.

SUMMARY: This action extends the comment period for an NPRM that was published on September 25, 2002. In that document, the FAA proposed requirements to establish flight simulation device qualification requirements in a new part. This extension is a result of requests from Air Transport Association and Covington & Burling, on behalf of CAE.

DATES: Comments must be received on or before February 24, 2003.

ADDRESSES: Comments on this document should be mailed or delivered, in duplicate, to: U.S. Department of Transportation Dockets, Docket No. FAA-2002-12461, 400 Seventh Street, SW., Room Plaza 401, Washington, DC 20590. Comments may be filed and examined in Room Plaza 401 between 10 a.m. and 5 p.m. weekdays, except Federal holidays. Comments also may be sent electronically to the Dockets Management System (DMS) at the following Internet address: http://dms.dot.gov at any time. Commenters who wish to file comments electronically should follow the instructions on the DMS Web site.

FOR FURTHER INFORMATION CONTACT: Edward Cook, National Simulator Program Staff (AFS-205), Flight Standards Service, Federal Aviation Administration, 1701 Columbia Avenue, College Park, GA 30337; telephone (404) 305-6100.

SUPPLEMENTARY INFORMATION:

Comments Invited

The FAA invites interested persons to participate in this rulemaking by submitting written comments, data, or views. We also invite comments relating to the economic, environmental, energy, or federalism impacts that might result from adopting the proposals in the NPRM, Notice No. 02-11. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the web address in the ADDRESSES section.

Before acting on the proposals in the NPRM, Notice No. 02-11, we will consider all comments we receive on or before the closing date. We will consider comments filed late if it is possible to do so without incurring expense or delay. We may change the proposals in light of the comments we receive.

If you want the FAA to acknowledge receipt of your comments, include with your comments a pre-addressed, stamped postcard on which the docket number appears. We will stamp the date on the postcard and mail it to you.

Background

On September 25, 2002, the FAA published NPRM, Notice No. 02-11, Flight Simulation Device Initial and Continuing Qualification and Use (67 FR 60284). Comments to that document were to be received on or before December 24, 2002.

By letter dated October 16, 2002, the Air Transport Association requested that the FAA extend the comment period for Notice No. 02-11 until March 31, 2003. In addition, by letter dated October 24, 2002, Covington & Burling, on behalf of CAE (a flight simulation manufacturer), requested that the FAA extend the comment period for Notice No. 02-11 until March 31, 2003. The commenters noted that the NPRM was large and that a 90-day comment ending December 24, 2002, was not sufficient in order to make substantive and comprehensive comments.

The FAA agrees that additional time for comments may be needed because of the timing of the 90-day comment period. However, the FAA believes that a 90-day extension would be excessive. Therefore, the FAA believes an additional 60 days would be adequate for these entities to provide comment to Notice No. 02-11.

Extension of Comment Period

In accordance with § 11.47 of Title 14, Code of Federal Regulations, the FAA has reviewed the requests made by Air Transport Association and Covington & Burling, on behalf of CAE, for extension of the comment period to Notice No. 02-11. The FAA has found good cause for extending the comment period for 60 days. The FAA also has determined that extension of the comment period is consistent with the public interest.

Accordingly, the comment period for Notice No. 02-11 is extended until February 24, 2003.

Issued in Washington, DC, on November 7, 2002.
Louis C. Cusimano,
Acting Director, Flight Standards Service.

[FR Doc. 02-29067 Filed 11-14-02; 8:45 am]

BILLING CODE 4910-13-P